DEPARTMENT OF THE INTERIOR

Minerals Management Service

Notice of Availability of the Draft Environmental Impact Statement (EIS) and Locations and Dates of Public Hearings for Delineation Drilling Activities in Federal Waters Offshore Santa Barbara County, CA

AGENCY: Minerals Management Service, Interior.

ACTION: Notice of availability of the draft EIS and announcement of locations and dates of public hearings.

SUMMARY: The MMS announces the availability of the draft EIS on Delineation Drilling Activities in Federal Waters Offshore Santa Barbara County, California. This draft EIS evaluates the potential environmental impacts associated with drilling 4 or 5 separate Federal Outer Continental Shelf (OCS) oil and gas delineation wells on existing OCS leases located offshore southern California. Delineation is a type of exploration drilling activity that involves drilling a well to gather additional information about the nature and extent of the hydrocarbon reservoirs in areas where a discovery has already been made.

DATES: Comments on the draft EIS will be accepted until August 13, 2001.

FOR FURTHER INFORMATION CONTACT: Questions concerning the draft EIS should be directed to Mr. Maurice Hill, Minerals Management Service, Office of Environmental Evaluation, Pacific OCS Region, 770 Paseo Camarillo, Camarillo, California 93010-6064. He may be reached by telephone at (805) 389-7815.

SUPPLEMENTARY INFORMATION: The purpose of this document is to provide information for Federal, State, and local agencies, and the public to evaluate the effects of the proposed delineation projects and the cumulative effects of past, present, and reasonably foreseeable actions. The proposed action discussed in this draft EIS is the sequential drilling of 4 or 5 delineation wells on four separate OCS units using a semi-submersible drilling vessel, commonly referred to as a mobile offshore drilling unit. A unit is a number of leases grouped together to prevent waste, conserve natural resources, and protect Federal royalty interests. Each of the four subject units has been previously explored under Exploration Plans (EP) approved by the MMS and found consistent with the California Coastal Management Plan by the California Coastal Commission. Operators are expected to submit to the MMS revisions to 4 to 5 existing EP's in September 2001. The operators of these units, Nuevo Energy Company, Aera Energy LLC, and Samedan Oil Corporation, propose to drill delineation wells to complete their data on reservoir configuration and characteristics. It would take 68 to 92 days to drill and test each well. The first well would commence drilling in May 2002 and the last well in May 2003. The data received from these wells would assist the operators in determining how to develop and produce the oil and gas reserves underlying these and possibly adjacent units.

The Notice of Intent to prepare this EIS (Federal Register, Vol. 65, No. 226, pages 70361-70362, November 22, 2000) referred to “exploratory drilling activities.” We have renamed the document to more specifically reflect the fact that “delineation drilling activities” are the focus of the draft EIS. As discussed above, and defined in the Notice of Intent, delineation is a type of exploration drilling activity that involves drilling a well to gather additional information about the nature and extent of the hydrocarbon reservoirs in areas where a discovery has already been made.

EIS Availability: The draft EIS is available on our web site at www.mms.gov/omm/pacific. In addition, you may obtain single copies of the draft EIS by writing the Minerals Management Service, Pacific OCS Region, Attention: Delineation Drilling Activities Draft EIS, 770 Paseo Camarillo, Camarillo, California 93010-6064, or by calling Janice Hall at 1-800-672-2627. Please indicate whether you would like to receive a paper copy of the draft EIS or a CD-ROM. To avoid excess printing and mailing costs, we will not accept e-mail requests for hard copies or CD-ROM's.

The draft EIS will also be available at the following California libraries:

Camarillo Public Library, 3100 Ponderosa Drive, Camarillo;

Cambria Library, 900 Main Street, Cambria;

Carpinteria Public Library, 5141 Carpinteria Avenue, Carpinteria;

Goleta Public Library, 500 N. Fairview, Goleta;

Davidson Library, University of California at Santa Barbara, Santa Barbara;

Robert F. Kennedy Library, Cal Poly State University, San Luis Obispo;

Santa Barbara Central Public Library, 40 E. Anapamu, Santa Barbara;

Santa Barbara Museum of Natural History, Library, 2559 Puesta Del Sol Road, Santa Barbara;

U.S. National Park Service Library, Channel Islands National Park, 1901 Spinnaker Drive, Ventura;

Ventura College Library, 4667 Telephone Road, Ventura.

Public Hearings: The MMS will hold two public hearings to receive comments on the draft EIS. The hearings present one of the opportunities to provide us with information that will help in the evaluation of the potential effects of the proposed action. The second is direct mail or email comments on the document.

Hearings will be held in Santa Barbara and Santa Maria on the following dates and times: July 10, 2001, 1-5 p.m. and 6-9 p.m., Fess Parker Doubletree Hotel, 633 East Cabrillo Boulevard, Santa Barbara; and July 12, 2001, 1-5 p.m. and 6-9 p.m., Ethel Pope Auditorium, 901 S. Broadway Street Santa Maria.

If you wish to testify at a hearing, you may register at the hearing site from noon to 8:30 p.m. Speakers will be limited to 3 minutes and will speak in the order of their registration. Elected officials will be given preference.

Written statements submitted at a hearing will be considered part of the hearing record. If you are unable to attend the hearing, or prefer to provide written comments separately, you may submit your comments until Monday, August 13, 2001, the closing date for public comments. Send written comments to the Minerals Management Service, Pacific OCS Region, Attention: Delineation Drilling Activities Draft EIS, 770 Paseo Camarillo, Camarillo, California 93010-6064. Written comments may be provided by e-mail to Delineation Drilling@mms.gov. Please provide your name and address when commenting by mail or e-mail.

Dated: June 18, 2001.
Carolita U. Kallaur,
Associate Director for Offshore Minerals Management.

[FR Doc. 01-15639 Filed 6-20-01; 8:45 am]

BILLING CODE 4310-MR-P